DEPARTMENT OF JUSTICE

Notice of Lodging of Consent Decree Under the Safe Drinking Water Act

Notice is hereby given that on July 16, 2008, a proposed Consent Decree (the “Decree”) in United States v. City of Middletown, New York, Civil Action No. 08 Civ. 6369 (SCR) (LMS) was lodged with the United States District Court for the Southern District of New York.

In a complaint, filed simultaneously with the Decree, the United States charged that the City of Middletown (the “City”) violated the Safe Drinking Water Act, 42 U.S.C. 300f, et seq., by violating the Interim Enhanced Surface Water Treatment Rule, found at 40 CFR part 141, subpart P; 40 CFR 141.170-141.175 (“IESWTR”), and specifically failing to comply with the February 28, 2006 deadline, set in an Administrative Order issued by EPA against the City on March 31, 2004, to issue a notice to proceed in connection with the construction of a full scale water treatment plant to replace the existing, inadequate Monhagen Water Treatment Plant.

Pursuant to the Decree, the City shall construct a water treatment facility to filter the drinking water it draws from surface water sources. The Decree requires the City to complete construction of the facility by April 30, 2010, pursuant to a schedule of eight interim construction milestones.

The Decree further requires the City to implement a number of interim measures to protect the quality of its drinking water until the City has fully complied with the long term construction of the water treatment facility. For example, the Decree mandates ongoing monitoring of the water that the City obtains from surface water sources, as well as monthly reporting of the monitoring data to EPA, the State of New York and Orange County.

The City will pay a $50,000 civil monetary penalty to the United States pursuant to the Decree. The City must also carry out an environmental project to conserve and improve the water quality in and around the City. Specifically, the City will implement an environmental project to collect the backwash water from the proposed water treatment plant for recycling to the head of the water treatment plant. The implementation of recycling will prevent the backwash from being discharged into the same surface water from which the City obtains its drinking water. The recycling project will also provide an alternative to discharging the filter backwash water into the City's sanitary sewer system as under the current system, with the anticipated result that approximately 62 million gallons of water per year will be conserved. The value of this supplemental environmental project is estimated at $490,000.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. City of Middletown, New York, D.J. Ref. 90-5-1-1-09111.

The Decree may be examined at the Office of the United States Attorney, 86 Chambers Street, 3rd Floor, New York, New York 10007, and at U.S. EPA Region 2, Office of Regional Counsel, 290 Broadway, New York, New York 10007-1866. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury or, if by e-mail or fax, forward a check in that amount to the Consent Decree Library at the stated address.

Maureen Katz,
Assistant Chief, Environmental Enforcement Section, Environment and Natural Resources Division.

[FR Doc. E8-16736 Filed 7-21-08; 8:45 am]

BILLING CODE 4410-15-P